DEPARTMENT OF COMMERCE

International Trade Administration

[A-570-894]

Certain Tissue Paper Products From the People's Republic of China: Final Results and Partial Rescission of the 2007-2008 Antidumping Duty Administrative Review and Determination Not To Revoke in Part

AGENCY: Import Administration, International Trade Administration, Department of Commerce.

SUMMARY: On April 6, 2009, the Department of Commerce (the Department) published the preliminary results of the 2007-2008 administrative review of the antidumping duty order on certain tissue paper products from the People's Republic of China (PRC) covering the period March 1, 2007, through February 29, 2008. This administrative review covers three mandatory respondents. We invited interested parties to comment on the preliminary results.

Based on our analysis of the comments received, we have made changes to the margin calculations. The weighted-average dumping margins are listed below in the section entitled “Final Results of Review.”

DATES: Effective Date: October 9, 2009.

FOR FURTHER INFORMATION CONTACT: Brian Smith or Brandon Custard, AD/CVD Operations, Office 2, Import Administration, International Trade Administration, U.S. Department of Commerce, 14th Street and Constitution Avenue, NW., Washington, DC 20230; telephone: (202) 482-1766 or (202) 482-1823, respectively.

SUPPLEMENTARY INFORMATION:

Background

On April 6, 2009, the Department published the preliminary results of this administrative review. See Certain Tissue Paper Products From the People's Republic of China: Preliminary Results and Partial Rescission of the 2007-2008 Administrative Review and Intent Not to Revoke Order in Part, 74 FR 15449 (April 6, 2009) (Preliminary Results). In response to the interested parties' requests, we extended the deadlines for submitting publicly available information (PAI) and case and rebuttal briefs for consideration in the final results of this administrative review.

On May 8, 2009, Max Fortune Industrial Limited and Max Fortune (FEDTE) Paper Products Co., Ltd. (Max Fortune) submitted certain information to correct alleged errors with respect to its reported plastic bag consumption factors. On May 13, 2009, we determined that this submission contained untimely new factual information and returned it to Max Fortune in accordance with 19 CFR 351.302(d).

On May 20, 2009, Max Fortune attempted to resubmit this information. The Department rejected the submission for the second time on May 27, 2009, under 19 CFR 351.302(d).

On May 21, 2009, Max Fortune and the petitioner, Seaman Paper Company of Massachusetts, Inc., submitted PAI.

On June 15 and 29, 2009, Max Fortune and the petitioner submitted case and rebuttal briefs, respectively. No party requested a hearing.

On July 15, 2009, the Department postponed the final results of this review until October 3, 2009.¹ See Notice of Extension of Time Limit for Final Results of Antidumping Duty Administrative Review: Certain Tissue Paper Products From the People's Republic of China, 74 FR 35842 (July 21, 2009).

¹ Since October 3, 2009, is a Saturday, the final results are due on the next business day, October 5, 2009.

We have conducted this administrative review in accordance with sections 751(a) and 777(i)(1) of the Tariff Act of 1930, as amended (the Act), 19 CFR 351.213, and 19 CFR 351.221.

Period of Review

The period of review (POR) is March 1, 2007, through February 29, 2008.

Scope of the Order

The tissue paper products covered by this order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

The merchandise subject to this order does not have specific classification numbers assigned to them under the Harmonized Tariff Schedule of the United States (HTSUS). Subject merchandise may be under one or more of several different subheadings, including: 4802.30, 4802.54, 4802.61, 4802.62, 4802.69, 4804.31.1000, 4804.31.2000, 4804.31.4020, 4804.31.4040, 4804.31.6000, 4804.39, 4805.91.1090, 4805.91.5000, 4805.91.7000, 4806.40, 4808.30, 4808.90, 4811.90, 4823.90, 4802.50.00, 4802.90.00, 4805.91.90, 9505.90.40. The tariff classifications are provided for convenience and customs purposes; however, the written description of the scope of this order is dispositive.²

² On January 30, 2007, at the direction of CBP, the Department added the following HTSUS classifications to the AD/CVD module for tissue paper: 4802.54.3100, 4802.54.6100, and 4823.90.6700. However, we note that the six-digit classifications for these numbers were already listed in the scope.

Excluded from the scope of this order are the following tissue paper products: (1) Tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTSUS 4803.00.20.00 and 4803.00.40.00).

Final Partial Rescission

In the Preliminary Results, the Department preliminarily rescinded this review with respect to the following companies: Foshan Sansico Co., Ltd., Sansico Asia Pacific Limited, PT Grafitecindo Ciptaprima, PT Printec Perkasa, PT Printec Perkasa II, and PT Sansico Utama. These companies reported, and we confirmed based on import data from U.S. Customs and Border Protection (CBP), that they made no shipments of subject merchandise to the United States during the POR. Subsequent to the Preliminary Results, no information was submitted on the record indicating that the above companies made sales to the United States of subject merchandise during the POR. Thus, in accordance with 19 CFR 351.213(d)(3), and consistent with our practice, we are rescinding this review with respect to the above-named companies.

Separate Rates

In our Preliminary Results, we determined that Max Fortune met the criteria for the application of a separate rate, as it is a wholly foreign-owned company registered and located in Hong Kong. We have not received any information since the issuance of the Preliminary Results that provides a basis for the reconsideration of this determination. Therefore, the Department continues to find that Max Fortune meets the criteria for a separate rate for purposes of the final results of this review.

Also in the Preliminary Results, the Department found that Vietnam Quijiang Paper Co., Ltd. (Vietnam Quijiang) and Guilin Qifeng Paper Co., Ltd. (Guilin Qifeng) did not qualify for a separate rate, as neither company responded to the Department's requests for information (including a separate-rate application and/or certification). Accordingly, the Department considered these companies to be a part of the PRC-wide entity for purposes of this review. See Preliminary Results, 74 FR at 15452. No party commented on the Department's preliminary finding with respect to Vietnam Quijiang and Guilin Qifeng. Therefore, the Department continues to find these two companies to be part of the PRC-wide entity in the final results of this review.

Application of Adverse Facts Available

As discussed in the Preliminary Results, Vietnam Quijiang and Guilin Qifeng did not respond to the Department's requests for information. Accordingly, the Department determined that these two entities did not establish their eligibility for separate-rate status, and as a result, deemed them to be a part of the PRC-wide entity for purposes of this review. Based upon the failure of Vietnam Quijiang and Guilin Qifeng, as part of the PRC-wide entity, to submit responses to the Department's questionnaires, the Department found that the PRC-wide entity failed to cooperate to the best of its ability in responding to the Department's requests for information, and assigned it a rate based on total adverse facts available (AFA) pursuant to sections 776(a)(2)(A), (B) and (C), and 776(b) of the Act. Consistent with the statute, court precedent, and its normal practice, as AFA, the Department assigned the PRC-wide entity the highest rate on the record of any segment of this proceeding (i.e., 112.64 percent). This rate was corroborated to the extent practicable in accordance with section 776(c) of the Act, as discussed in the Preliminary Results. See Preliminary Results, 74 FR at 15452-15453.

The Department did not receive comments regarding the Department's preliminary application of AFA to the PRC-wide entity, which includes Vietnam Quijiang and Guilin Qifeng. Therefore, for the final results, the Department has not altered its decision to apply a total AFA rate of 112.64 percent to the PRC-wide entity in accordance with sections 776(a)(2)(A), (B) and (C), and 776(b) of the Act.

Determination Not To Revoke in Part

Max Fortune requested that the Department revoke it from the antidumping duty order on certain tissue paper products from the PRC pursuant to 19 CFR 351.222(d)(1) and (e), based on three consecutive years of zero and/or de minimis margins.

While the Department found either zero or de minimis dumping margins for Max Fortune during the 1st administrative review (i.e., 2004-2006 POR) and 2nd administrative review (i.e., 2006-2007 POR) of this order, it has not done so in the current administrative review (i.e., 2007-2008 POR). As Max Fortune's final dumping margin in this review is above de minimis, we find that Max Fortune has not satisfied the regulatory criterion of 19 CFR 351.222(b)(2)(i) requiring three consecutive years of sales at not less than normal value, and is therefore not eligible for revocation.

Notwithstanding this finding, we also find that Max Fortune did not make sales to the United States in commercial quantities during all three years forming the basis of its revocation request, as required under 19 CFR 351.222(d)(1) and (e)(1)(ii). In making this determination, we relied upon Max Fortune's sales activity during the period of investigation (POI) and the 2004-2006, 2006-2007, and 2007-2008 PORs. For at least two of these periods, Max Fortune's sales to the United States were not made in commercial quantities.

Therefore, we have determined not to revoke the order with respect to Max Fortune because it has not met two of the regulatory criteria for revocation set forth in 19 CFR 351.222(b) and (d). For a complete discussion, see Comment 1 of the Issues and Decision Memorandum from John M. Andersen, Acting Deputy Assistant Secretary for Antidumping and Countervailing Duty Operations, to Ronald K. Lorentzen, Acting Assistant Secretary for Import Administration (Issues and Decision Memorandum) accompanying this notice; and the October 5, 2009, Memorandum from the PRC Tissue Paper Team to James P. Maeder, Jr., Director, Office 2, AD/CVD Operations, entitled “Request for Revocation by Max Fortune Industrial Limited (Max Fortune).”

Analysis of Comments Received

All issues raised in the case briefs by the parties and to which we have responded are addressed in the Issues and Decision Memorandum, which is hereby adopted by this notice. A list of the issues raised, all of which are in the Issues and Decision Memorandum, is attached to this notice as Appendix I. Parties can find a complete discussion of all issues raised in the briefs and the corresponding recommendations in this public memorandum, which is on file in the Central Records Unit (CRU), room 1117 of the Department of Commerce. In addition, a complete version of the Issues and Decision Memorandum can be accessed directly on the Web at http://trade.gov/ia. The paper copy and electronic version of the Issues and Decision Memorandum are identical in content.

Changes From the Preliminary Results

Based on the information submitted and our analysis of the comments received, we have made certain changes to the margin calculations for Max Fortune as follows:

• We used the Indian import data from World Trade Atlas for Harmonized Tariff Schedule subheading 6305.39.00 to value polypropylene bags. See Comment 3 of the Issues and Decision Memorandum for further discussion; and

• We corrected Max Fortune's reported polypropylene bag consumption factors for two products. See Comment 9 of the Issues and Decision Memorandum for further discussion.

Final Results of Review

We determine that the following antidumping duty margins exist in these final results:

Certain Tissue Paper Products From the PRC
Individually reviewed exporter 2007-2008 administrative review | Weighted- average percent margin (percent)
Max Fortune Industrial Limited | 14.25
PRC-wide rate | Margin (percent)
PRC-wide rate (including Guilin Qifeng Paper Co., Ltd. and Vietnam Quijiang Paper Co., Ltd.) | 112.64

Assessment

Pursuant to section 751(a)(2)(A) of the Act and 19 CFR 351.212(b), the Department will determine, and CBP shall assess, antidumping duties on all appropriate entries. The Department intends to issue assessment instructions to CBP 15 days after the date of publication of these final results of review. In accordance with 19 CFR 351.212(b)(1), for Max Fortune, we calculated importer (or customer)-specific assessment rates for the merchandise subject to this review. Because we do not have entered values on the record for Max Fortune's sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2).

With respect to the PRC-wide entity (including Vietnam Quijiang and Guilin Qifeng), we will instruct CBP to liquidate appropriate entries at the PRC-wide rate of 112.64 percent.³

³ In the final determination of the circumvention inquiry involving Vietnam Quijiang (see Certain Tissue Paper Products from the People's Republic of China: Affirmative Final Determination of Circumvention of the Antidumping Duty Order, 73 FR 57591 (October 3, 2008), the Department stated that if Vietnam Quijiang did not participate in this administrative review, we would immediately revoke the certification program relevant to its entries of certain tissue paper products from Vietnam, thereby presuming all of its entries to be of PRC origin regardless of whether they are declared to be Vietnamese or PRC origin. See October 24, 2008, Memorandum entitled “Discontinuation of Certification Program.”

Cash Deposit Requirements

The following cash deposit requirements will be effective upon publication of the notice of final results of the administrative review for all shipments of certain tissue paper products from the PRC entered, or withdrawn from warehouse, for consumption on or after the date of publication, as provided by section 751(a)(2)(C) of the Act: (1) A cash deposit rate of 14.25 percent will be required for certain tissue paper products from the PRC exported by Max Fortune; (2) for previously reviewed or investigated companies not listed above that have separate rates, the cash-deposit rate will continue to be the company-specific rate published for the most recent period; (3) for all other PRC exporters of subject merchandise, which have not been found to be entitled to a separate rate, the cash-deposit rate will be PRC-wide rate of 112.64 percent; and (4) for all non-PRC exporters of subject merchandise, the cash-deposit rate will be the rate applicable to the PRC exporter that supplied that non-PRC exporter. These deposit requirements, when imposed, shall remain in effect until further notice.

Notification to Importers

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

Notification to Interested Parties

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing these final results of review in accordance with sections 751(a)(1) and 777(i)(1) of the Act and 19 CFR 351.221(b)(5).

Dated: October 5, 2009.
Ronald K. Lorentzen,
Acting Assistant Secretary for Import Administration.

Appendix—List of Issues

Comment 1: Max Fortune's Request for Revocation from the Antidumping Duty Order

Comment 2: Incorporating Negative Dumping Margins in the Calculation of the Overall Antidumping Margin

Comment 3: Selection of Plastic Bag Surrogate Value

Comment 4: Valuing Containerization Expenses Separately From Brokerage and Handling Expenses

Comment 5: Selection of Financial Statements for Surrogate Financial Ratio Calculations

Comment 6: Reclassifications and Adjustments to Surrogate Financial Ratio Calculations

Comment 7: Appropriate Labor Rate

Comment 8: Excluding Indian Imports From Hong Kong in WTA-Sourced Surrogate Value Calculations

Comment 9: Revisions to Plastic Bag Consumption

[FR Doc. E9-24463 Filed 10-8-09; 8:45 am]

BILLING CODE 3510-DS-P